DEPARTMENT OF COMMERCE

International Trade Administration

Environmental Technologies Trade Advisory Committee (ETTAC)

AGENCY: International Trade Administration, US Department of Commerce.

ACTION: Notice of open meeting.

SUMMARY: The Environmental Technologies Trade Advisory Committee will hold a plenary meeting to discuss reports from its water and government resources subcommittees. The ETTAC was created on May 31, 1994, to advise the U.S. government on policies and programs to expand U.S. exports of environmental products and services.

DATES: November 14, 2000.

TIME: 9 am to 3 pm.

PLACE: Room 3407, U.S. Department of Commerce, 14th Street and Constitution Avenue, NW., Washington, DC 20230.

The meeting will include a report on progress to date of services negotiations taking place at the World Trade Organization (WTO). ETTAC will also discuss reports prepared by its Government Resources and Water subcommittees.

For further information phone Jane Siegel, Office of Technologies Industries, (ETI), U.S. Department of Commerce at (202) 482-5225. This meeting is physically accessible to people with disabilities. Requests for sign language interpretation or other auxiliary aids should be directed to ETI.

Carlos F. Montoulieu,
Deputy Assistant Secretary, Acting.

[FR Doc. 00-27503 Filed 10-25-00; 8:45 am]

BILLING CODE 3510-DR-P